DEPARTMENT OF HOMELAND SECURITY

Coast Guard

33 CFR Part 117

[Docket No. USCG-2014-0765]

Drawbridge Operation Regulation; Milford Haven Inlet, Hudgins, VA

AGENCY: Coast Guard, DHS.

ACTION: Notice of temporary deviation from drawbridge regulations.

SUMMARY: The Coast Guard has issued a temporary deviation from the operating schedule that governs the State Route 223 Bridge (Gwynn's Island) across the Milford Haven Inlet, mile 0.1, at Hudgins, VA. This deviation allows the bridge to remain in the closed-to-navigation position to facilitate rehabilitation efforts. The bridge will open to navigation for a period not to exceed two hours once every seven days.

DATES: This deviation is effective from 7 a.m., on October 1, 2014 to 7 a.m., on November 1, 2014.

ADDRESSES: The docket for this deviation, [USCG-2014-0765] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mrs. Jessica Shea, Bridge Management Specialist, Fifth Coast Guard District, telephone (757) 398-6422. Email jessica.c.shea2@uscg.mil. If you have questions on viewing the docket, call Cheryl Collins, Program Manager, Docket Operations, telephone (202) 366-9826.

SUPPLEMENTARY INFORMATION: The bridge owner, the Virginia Department of Transportation (VDOT), is conducting maintenance on the State Route 223 swing bridge over Milford Haven Inlet near Hudgins, VA. VDOT requested deviation from the requirement to open on signal as required by 33 CFR 117.5 in order to facilitate the rehabilitation work. The deviation period commences at 7 a.m., on October 1, 2014 and goes through 7 a.m., on November 1, 2014. During the deviation period, the construction work requires 24-hour periods where the bridge will be unable to open to navigation. However, once a week, the bridge will be able to open to navigation for a period not to exceed two hours. Due to the nature of the work and the time necessary to dismantle the equipment, a definitive schedule of openings could not be created. The date and time of the weekly opening will be announced through a Coast Guard Broadcast Notice to Mariners at least 48 hours before the opening. The opening duration and frequency were established through coordination meetings with the local waterway users during August 2014. The vertical clearance of the swing bridge in the closed-to-navigation position is 12 feet at mean high water. Vessels able to pass through the bridge in the closed position may do so at any time and are advised to proceed with caution. During this temporary deviation, the southern approach to Gwynn's Island by Sandy Point, VA can be used as an alternate route for vessels able to transit in water depths of two feet. The bridge will not be able to open for emergencies during the closure periods.

In accordance with 33 CFR 117.35(e), the drawbridge must return to its regular operating schedule immediately at the end of the effective period of this temporary deviation. This deviation from the operating regulations is authorized under 33 CFR 117.35.

Dated: September 3, 2014.
Waverly W. Gregory, Jr.,
Bridge Program Manager, Fifth Coast Guard District.

[FR Doc. 2014-22434 Filed 9-18-14; 8:45 am]

BILLING CODE 9110-04-P